DEPARTMENT OF ENERGY

Federal Energy Regulatory Commission

[Project Nos. 2322-069; 2322-071; 2325-100; Project No. 2574-092; Project No. 2611-091]

Brookfield White Pine Hydro, LLC, Merimil Limited Partnership, Hydro-Kennebec, LLC; Notice of Revised Procedural Schedule for Environmental Impact Statement for the Proposed Project Relicense, Interim Species Protection Plan, and Final Species Protection Plan

On January 31, 2020, Brookfield White Pine Hydro, LLC filed an application for a new license to continue to operate and maintain the 8.65-megawatt (MW) Shawmut Hydroelectric Project No. 2322 (Shawmut Project). On June 1, 2021, in a separate compliance proceeding for the Shawmut Project, Brookfield White Pine Hydro, LLC filed an Interim Species Protection Plan (Interim Plan) for Atlantic salmon and requested Commission approval to amend the current Shawmut license to incorporate the Interim Plan. The Interim Plan includes measures to protect endangered Atlantic salmon until the Commission issues a decision on the relicense application for the Shawmut Project.

Also on June 1, 2021, Brookfield Power US Asset Management, LLC (Brookfield), on behalf of the affiliated licensees for the 6.915-MW Lockwood Hydroelectric Project No. 2574, 15.433-MW Hydro-Kennebec Hydroelectric Project No. 2611, and 15.98-MW Weston Hydroelectric Project No. 2325, filed a Final Species Protection Plan (Final Plan) for Atlantic salmon, Atlantic sturgeon, and shortnose sturgeon and requested Commission approval to amend the three project licenses to incorporate the Final Plan. All four projects are located on the Kennebec River, in Kennebec and Somerset Counties, Maine.

On November 23, 2021, Commission staff issued a notice of intent to prepare a draft and final Environmental Impact Statement (EIS) to evaluate the effects of relicensing the Shawmut Project and amending the licenses of all four projects to incorporate the measures in the Interim and Final Plans. The notice of intent included a schedule for preparing a draft and final EIS. The schedule was updated on September 18, 2023.¹

¹ The final EIS was scheduled to be issued by September 2024.

The draft EIS was issued on March 28, 2024. Extensive verbal and written comments on the draft EIS were filed by state and federal resource agencies, non-governmental organizations, Indian Tribes, and the public. The comments need to be considered in the final EIS. Therefore, by this notice, Commission staff is updating the procedural schedule for completing the final EIS.

The revised schedule is shown below. Further revisions to the schedule may be made as appropriate.

Milestone | Target date
Issue Final EIS | February 28, 2025

Any questions regarding this notice may be directed to Marybeth Gay at Marybeth.gay@ferc.gov or Matt Cutlip at Matt.Cutlip@ferc.gov.

Dated: September 24, 2024.
Debbie-Anne A. Reese,
Acting Secretary.

[FR Doc. 2024-22851 Filed 10-2-24; 8:45 am]

BILLING CODE 6717-01-P